DEPARTMENT OF ENERGY

Federal Energy Regulatory Commission

Combined Notice of Filings #1

Take notice that the Commission received the following electric rate filings:

Docket Numbers: ER10-2895-008; ER11-2292-007; ER11-3942-006; ER11-2293-007; ER10-2917-008; ER11-2294-007; ER13-1613-001; ER10-2918-009; ER10-2920-008; ER11-3941-006; ER10-2921-008; ER10-2922-008; ER10-2966-008.

Applicants: Bear Swamp Power Company LLC, Brookfield Energy Marketing Inc., Brookfield Energy Marketing LP, Brookfield Energy Marketing US LLC, Brookfield Power Piney & Deep Creek LLC, Brookfield Renewable Energy Marketing US, Brookfield White Pine Hydro LLC, Carr Street Generating Station, L.P., Erie Boulevard Hydropower, L.P., Granite Reliable Power, LLC, Great Lakes Hydro America, LLC, Hawks Nest Hydro LLC, Rumford Falls Hydro LLC.

Description: Supplement to December 30, 2013 Updated Market Power Analysis for the Northeast Region of the Brookfield Companies.

Filed Date: 7/31/14.

Accession Number: 20140731-5214.

Comments Due: 5 p.m. ET 8/21/14.

Docket Numbers: ER14-2608-000.

Applicants: California Independent System Operator Corporation.

Description: 2014-08-06_BPA_DynamicTransferAgreement to be effective 10/1/2014.

Filed Date: 8/6/14.

Accession Number: 20140806-5130.

Comments Due: 5 p.m. ET 8/27/14.

Docket Numbers: ER14-2609-000.

Applicants: 3 Phases Energy Services, LLC.

Description: The California Independent System Operator submits Tariff 3 Phases Energy Services, LLC submits Request for Waiver of Section 37.11.1.

Filed Date: 8/6/14.

Accession Number: 20140806-5165.

Comments Due: 5 p.m. ET 8/27/14.

Docket Numbers: ER14-2610-000.

Applicants: Southwestern Public Service Company.

Description: 2014-8-7_SPS-GSEC-BCEC-South-CA-672-0.0.0-filing to be effective 8/8/2014.

Filed Date: 8/7/14.

Accession Number: 20140807-5010.

Comments Due: 5 p.m. ET 8/28/14.

Take notice that the Commission received the following land acquisition reports:

Docket Numbers: LA13-4-000.

Applicants: Macho Springs Power I, LLC.

Description: Quarterly Land Acquisition Report and Request for Waiver of Macho Springs Power I, LLC.

Filed Date: 8/6/14.

Accession Number: 20140806-5158.

Comments Due: 5 p.m. ET 8/27/14.

Take notice that the Commission received the following qualifying facility filings:

Docket Numbers: QF14-586-000.

Applicants: HSC Fuel Cell 1, LLC.

Description: Form 556 of HSC Fuel Cell 1, LLC.

Filed Date: 6/17/14.

Accession Number: 20140617-5181.

Comments Due: None Applicable.

Docket Numbers: QF14-641-000.

Applicants: REI 2, LLC.

Description: Form 556 of REI 2, LLC.

Filed Date: 7/7/14.

Accession Number: 20140707-5083.

Comments Due: None Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 7, 2014.
Nathaniel J. Davis, Sr.,
Deputy Secretary.

[FR Doc. 2014-19382 Filed 8-14-14; 8:45 am]

BILLING CODE 6717-01-P